DEPARTMENT OF HOUSING AND URBAN DEVELOPMENT

[Docket No. FR-7087-N-01]

60-Day Notice of Proposed Information Collection: Requirements for Notification, Evaluation and Reduction of Lead-Based Paint Hazards in Federally-Owned Residential Properties and Housing Receiving Federal Assistance; OMB Control No.: 2539-0009

AGENCY: Office of Lead Hazard Control and Healthy Homes, HUD.

ACTION: Notice.

SUMMARY: HUD is seeking approval from the Office of Management and Budget (OMB) for renewal of the information collection described below. In accordance with the Paperwork Reduction Act, HUD is requesting comment from all interested parties on the proposed collection of information. The purpose of this notice is to allow for 60 days of public comment.

DATES: Comments Due Date: April 1, 2024.

ADDRESSES: Interested persons are invited to submit comments regarding this proposal. Written comments and recommendations for the proposed information collection can be submitted within 60 days of publication of this notice to www.reginfo.gov/public/do/PRAMain. Find this particular information collection by selecting, “Currently under 60-day Review—Open for Public Comments” or by using the search function. Interested persons are also invited to submit comments regarding this proposal by name and/or OMB Control Number and can be sent to: Anna Guido, Reports Management Officer, REE, Department of Housing and Urban Development, 451 7th Street SW, Room 8210, Washington, DC 20410-5000 or email at PaperworkReductionActOffice@hud.gov.

FOR FURTHER INFORMATION CONTACT: Anna Guido, Reports Management Officer, Department of Housing and Urban Development, 451 7th Street SW, Washington, DC 20410; email; Anna.P.Guido@hud.gov; telephone (202) 402-5535 (this is not a toll-free number). HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for renewal of the information collection described in Section A.

A. Overview of Information Collection

Title of Information Collection: Requirements for Notification, Evaluation and Reduction of Lead-Based Paint Hazards in Federally-Owned Residential Properties and Housing Receiving Federal Assistance.

OMB Approval Number: 2539-0009.

Type of Request: Revision of a currently approved collection with some changes due to program changes.

Form Number: Not applicable.

Description of the need for the information and proposed use: Provision of a pamphlet on lead poisoning prevention to tenants and purchasers; provision of a notice to occupants on the results of lead hazard evaluation or reduction activities; special reporting requirements for a child with an environmental intervention blood lead level; and recordkeeping and periodic summary reporting requirements. Required notifications under the Lead Safe Housing Rule, 24 CFR 35.

Respondents: Residential property owners; housing agencies; Federal grantees; and tribally designated housing entities and/or participating jurisdictions.

The revised hour burden estimates are presented in the table below. In the table, the 16.58 hourly cost per response reflects the weighted average of cases, first, in which the respondent is simply giving someone a pamphlet, putting something in a file, or retrieving something from a file, and sending summary information from it to the Department, valued at $11.26 per hour; and second, processing notices as above as well as providing information in cases of lead-poisoned children, valued at $18.00 per hour.

Information collection | Number of respondents | Frequency of response | Responses per annum | Burden hour per response | Annual burden hours | Hourly cost per response | Annual cost
Total | 63,000 | As needed | Various | 2.2 | 138,600 | $16.58 | $2,297,988

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. chapter 35.

Matthew Ammon,
Director, Office of Lead Hazard Control and Healthy Homes.

[FR Doc. 2024-01759 Filed 1-29-24; 8:45 am]

BILLING CODE 4210-67-P